DEPARTMENT OF HEALTH AND HUMAN SERVICES

Health Resources and Services Administration

Advisory Committee on Interdisciplinary, Community-Based Linkages; Notice of Request for Nominations

SUMMARY: The Health Resources and Services Administration (HRSA) is requesting nominations to fill two (2) vacancies on the Advisory Committee on Interdisciplinary, Community-Based Linkages (ACICBL).

Authority: 42 U.S.C. 294f, section 756 of the PHS Act, as amended. The Advisory Committee is governed by provisions of Public Law 92-463, as amended (5 U.S.C. Appendix 2) which sets forth standards for the formation and use of advisory committees.

DATES: The Agency must receive nominations on or before September 30, 2007.

ADDRESS: All nominations are to be submitted to Louis D. Coccodrilli, Designated Federal Official, ACICBL, Bureau of Health Professions (BHPr), HRSA, Parklawn Building, Room 9-05, 5600 Fishers Lane, Rockville, MD 20857.

FOR FURTHER INFORMATION CONTACT: Adriana Guerra, Public Health Fellow, Division of Medicine and Dentistry, by e-mail at aguerra@hrsa.gov or telephone, (301) 443-6194.

SUPPLEMENTARY INFORMATION: Under the authorities that established the ACICBL, the Federal Advisory Committee Act of October 6, 1972 (Pub. L. 92-463), and section 2119 of the Act, 42 U.S.C. 00aa-19, as added by (Pub. L. 99-660) and amended, HRSA is requesting nominations for two (2) voting members.

The ACICBL provides advice and recommendations to the Secretary and to the Congress concerning policy, program development and other matters of significance related to interdisciplinary, community-based training grant programs authorized under sections 751-756, Title VII, Part D of the Public Health Service Act. The ACICBL prepares an annual report describing the activities conducted during the fiscal year, identifying findings and developing recommendations to enhance Title VII Interdisciplinary, Community-Based Training Grant Programs. The Annual Report is submitted to the Secretary of the U.S. Department of Health and Human Services, and ranking members of the Committee on Health, Education, Labor and Pensions of the Senate, and the Committee on Energy and Commerce of the House of Representatives. The Department of Health and Human Services is requesting a total of two (2) nominations for voting members of the ACICBL from schools that have administered or are currently administering awards from the following programs: Geriatric Educational and Training Programs—1 nominee and Quentin N. Burdick Program for Rural Interdisciplinary Training—1 nominee.

Interested individuals may nominate multiple qualified professionals for membership to the ACICBL to allow the Secretary to choose from a highly qualified list of potential candidates. Nominees willing to serve as members of the ACICBL should have no appearance of a conflict of interest that would preclude their participation. Potential candidates will be asked to provide detailed information concerning consultancies, research grants, or contracts to permit an evaluation of possible sources of conflicts of interest. In addition, a curriculum vitae and a statement of interest will be required of the nominee to support experience working with Title VII Interdisciplinary, Community-Based Training Grant Programs, expertise in the field, and personal desire in participating on a National Advisory Committee. Qualified candidates will be invited to serve a one-, two-, or three-year term. All nominations must be received no later than September 30, 2007.

The legislation governing this Committee requires a fair balance of health professionals who represent the general population with regard to a broad geographic distribution and an evenness of urban and rural areas, along with professionals who are women and minorities. As such, the pool of appropriately qualified nominations should reflect these requirements to the degree possible.

Dated: August 28, 2007.
Alexandra Huttinger,
Acting Director, Division of Policy Review and Coordination.

[FR Doc. E7-17388 Filed 8-31-07; 8:45 am]

BILLING CODE 4165-15-P